DEPARTMENT OF HEALTH AND HUMAN SERVICES

Administration for Children and Families

Proposed Information Collection Activity; Comment Request Proposed Projects

Title: State Child Access Program Survey—Grants to States for Access and Visitation.

OMB No.: 0970-0204 (current).

Description: The Federal Office of Child Support Enforcement (OCSE) requests an extension of the current survey—without change—for three additional fiscal years (FY 2006-2008).

States are required, on an annual basis, to provide OCSE with program data on projects that have been funded through the Grants to States for Access and Visitation Program. This program reporting requirement includes, but is not limited to, the collection of data on the number of participants served, referral sources, kinds of services delivered, identification of local service providers, and the number of non-custodial parents whose parenting time increased as a result of participating in such services.

The purpose of collecting this information is twofold: (1) To help OCSE monitor state utilization of grant funds; and (2) to compile data, on an annual basis, into a report that provides states—in addition to the general public—with information on individual state Access and Visitation Program in an effort to promote cross-fertilization of innovative services at the local level.

Respondents: State Child Access and Visitation Program Coordinators and administrators of state, court and/or local service providers.

Annual Burden Estimates
Instrument | Number of respondents | Number of responses per respondent | Average burden hours per response | Total burden hours
State Child Access Program Survey | 324 | 1 | 15 | 4,860

Estimated Total Annual Burden Hours: 4,860. (FY 2006-2008)

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC, 20447. Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; and (c) the quality, utility, and clarity of the information to be collected; and (d) ways to minimize the burden of the collection of information on respondents, including through the use of automated collection techniques or other forms of information technology. Consideration will be given to comments and suggestions submitted within 60 days of this publication.

Dated: August 15, 2005.
Robert Sargis,
Reports Clearance Officer.

[FR Doc. 05-16423 Filed 8-18-05; 8:45 am]

BILLING CODE 4184-01-M